DEPARTMENT OF EDUCATION

Submission for OMB Review; Comment Request

AGENCY: Department of Education.

ACTION: Correction notice/change of comment period.

SUMMARY: On March 27, 2003, the Department of Education published a 30-day public comment period notice in the Federal Register (page 14968, column 3) for the information collection, “Electronic Debit Payment Option for Student Loans”. Comments were requested by March 26, 2003. Interested persons are invited to submit comments on or before May 2, 2003. The Leader, Regulatory Information Management Group, Office of the Chief Information Officer, hereby issues a correction notice as required by the Paperwork Reduction Act of 1995.

FOR FURTHER INFORMATION CONTACT: Joe Schubart at his e-mail address Joe.Schubart@ed.gov.

Dated: March 27, 2003.
John D. Tressler,
Leader, Regulatory Management Group, Office of the Chief Information Officer.

[FR Doc. 03-7861 Filed 4-1-03; 8:45 am]

BILLING CODE 4000-01-P